DEPARTMENT OF LABOR

Employment and Training Administration

[TA-W-61,671]

Faradyne Motors, A Joint Venture of ITT Industries and Pentair, Incorporated, Formerly Known as Success Enterprises LLC, Including On-Site Leased Workers From Kelly Services, Newark, NY, Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 20, 2007, applicable to workers of Faradyne Motors, A Joint Venture of ITT Industries and Pentair, Inc., Newark, New York. The notice was published in the Federal Register on July 9, 2007 (72 FR 37365).

At the request of the company, the Department reviewed the certification for workers of the subject firm. The workers are engaged in the production of motors for pumps. The subject firm originally named Success Enterprises LLC was renamed Faradyne Motors due to a corporate decision in 2006. The State agency reports that some workers wages at the subject firm are being reported under the Unemployment Insurance (UI) tax account for Success Enterprises LLC, Newark, New York.

Accordingly, the Department is amending the certification to properly reflect this matter.

The intent of the Department's certification is to include all workers of Faradyne Motors who were adversely affected by increased company imports following a shift in production to China.

The amended notice applicable to TA-W-61,671 is hereby issued as follows:

All workers of Faradyne Motors, A Joint Venture of ITT Industries and Pentair, Inc., formerly known as Success Enterprises LLC, including on-site leased workers from Kelly Services, Newark, New York, who became totally or partially separated from employment on or after June 11, 2006, through June 20, 2009, are eligible to apply for adjustment assistance under Section 223 of the Trade Act of 1974, and are also eligible to apply for alternative trade adjustment assistance under Section 246 of the Trade Act of 1974.

Signed at Washington, DC this 24th day of September 2007.
Elliott S. Kushner,
Certifying Officer, Division of Trade Adjustment Assistance.

[FR Doc. E7-19177 Filed 9-27-07; 8:45 am]

BILLING CODE 4510-FN-P